DEPARTMENT OF VETERANS AFFAIRS

Notice of Availability of a Record of Decision (ROD) for the Reconfiguration of VA Black Hills Health Care System (BHHCS)

AGENCY: Department of Veterans Affairs (VA).

ACTION: Notice of Availability.

SUMMARY: VA announces the availability of the ROD for the Reconfiguration of VA Black Hills Health Care System (BHHCS). The ROD states the decision to implement VA's preferred alternative as described in the Final EIS. Environmental consequences of the action are discussed in the ROD, along with the required minimization and mitigation measures.

DATES: The ROD is effective January 11, 2017.

ADDRESSES: The ROD may be viewed online at www.blackhills.va.gov/vablackhillsfuture/. Copies of the ROD are also available in the following public locations: Hot Springs; Rapid City Downtown; Sturgis; Chadron; Alliance; Lied Scottsbluff; and Pierre (Rawlins Municipal) public libraries, as well as in Pine Ridge at the Oglala Lakota College Pine Ridge Center library on the high school campus.

FOR FURTHER INFORMATION CONTACT: Staff Assistant to the Director, VA Black Hills Health Care System, 113 Comanche Road, Fort Meade, SD 57741, or by email to vablackhillsfuture@va.gov.

SUPPLEMENTARY INFORMATION: VA BHHCS provides health care to approximately 19,000 Veterans over 100,000 square miles in western South Dakota (SD), northwestern Nebraska (NE), and eastern Wyoming (WY). VA BHHCS consists of two medical centers at Fort Meade and Hot Springs, eight community-based outpatient clinics (CBOC), and six Compensated Work Therapy locations. VA BHHCS has identified a need to reconfigure the health care services to ensure it continues to provide high quality, safe, and accessible health care services across its service area. The existing locations and facilities constrain the quality of care, range of services, and access to care that VA offers in the catchment area. The Hot Springs campus includes buildings constructed in 1907 as part of the Battle Mountain Branch of the National Home for Disabled Volunteer Soldiers. The Battle Mountain Sanitarium was recognized as a National Historic Landmark in 2011.

Pursuant to NEPA, VA has identified and analyzed potential environmental impacts for a range of alternatives to the Proposed Action. These include seven alternatives, including the No Action Alternative, as well as a supplement to five of the alternatives for re-use of part or all of the existing Hot Springs campus. The alternatives propose different locations and combinations of facilities serving as a community-based outpatient clinic (CBOC), a multi-specialty outpatient clinic (MSOC), and a residential rehabilitation treatment program (RRTP) facility; expanding, renovating, or vacating existing facilities; reusing of part or all of the existing facilities; and taking no action. The new preferred Alternative, referred to as A-2 plus G in the Final EIS, is a hybrid of Alternatives A and C plus Supplemental Alternative G evaluated in the Draft EIS. It was identified by consulting parties during the public comment period on the Draft EIS and includes renovating Building 12 on the existing Hot Springs campus to operate as a CBOC, that would include Dialysis, a new MSOC (replacing the existing leased CBOC), and a 100-bed RRTP in Rapid City.

Signing Authority

The Secretary of Veterans Affairs, or designee, approved this document and authorized the undersigned to sign and submit the document to the Office of the Federal Register for publication electronically as an official document of the Department of Veterans Affairs. Robert A. McDonald, Secretary, Department of Veterans Affairs, approved this document on January 4, 2017, for publication.

Dated: January 4, 2017.
Jeffrey Martin,
Office Program Manager, Office of Regulation Policy & Management, Office of the Secretary, Department of Veterans Affairs.

[FR Doc. 2017-00278 Filed 1-10-17; 8:45 am]

BILLING CODE 8320-01-P